RAILROAD RETIREMENT BOARD

Notification of Meeting

The railroad Retirement Board hereby gives notice that the Board will meet at 10:00 a.m., April 3, 2002, in the Board Room on the 8th floor of the agency's headquarters building located at 844 N. Rush Street, Chicago, Illinois. The subject to be addressed at this meeting is the Selection to Fill Vacancy in the Philadelphia District Office.

The entire meeting will be closed to the public. The person to contact for more information is Beatrice Ezerski, Secretary to the Board, Phone No. 312-751-4920.

Dated: March 29, 2002.
Beatrice Ezerski,
Secretary to the Board.

[FR Doc. 02-8123 Filed 4-1-02; 8:45 am]

BILLING CODE 7905-01-M